DEPARTMENT OF LABOR

Employment and Training Administration

[TA-W-59,189; TA-W-59,189A]

Photronics, Inc., Austin, TX; Including an Employee of Photronics, Inc., Austin, Texas; Located in Chandler, Arizona; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 9, 2006, applicable to workers of Photronics, Inc., Austin, Texas. The notice was published in the Federal Register on May 24, 2006 (71 FR 29983).

At the request of a State agency, the Department reviewed the certification for workers of the subject firm. New information shows that a worker separation has occurred involving an employee of the Austin, Texas facility of Photronics, Inc., located in Chandler, Arizona.

Mr. Karl White provided sales function services for the production of photomasks produced by the subject firm.

Based on these findings, the Department is amending this certification to include employees of the Austin, Texas facility of Photronics, Inc. located in Chandler, Arizona.

The intent of the Department's certification is to include all workers of Photronics, Inc., Austin, Texas who were adversely affected by a shift in production to Taiwan, Korea, China and the United Kingdom.

The amended notice applicable to TA-W-59,189 is hereby issued as follows:

All workers of Photronics, Inc., Austin, Texas (TA-W-59,189), and including an employee located in Chandler, Arizona (TA-W-59,189A), who became totally or partially separated from employment on or after March 31, 2005, through May 9, 2008, are eligible to apply for adjustment assistance under Section 223 of the Trade Act of 1974 and are also eligible to apply for alternative trade adjustment assistance under Section 246 of the Trade Act of 1974.

Signed at Washington, DC, this 26th day of March 2007.
Linda G. Poole,
Certifying Officer, Division of Trade Adjustment Assistance.

[FR Doc. E7-6183 Filed 4-3-07; 8:45 am]

BILLING CODE 4510-FN-P